DEPARTMENT OF TRANSPORTATION

Surface Transportation Board

[STB Finance Docket No. 34105]

Conecuh Valley Railroad Co., Inc.—Acquisition and Operation Exemption—Southern Alabama Railroad Co., Inc.

Conecuh Valley Railroad Co., Inc. (CV), a noncarrier, has filed a verified notice of exemption under 49 CFR 1150.31 to acquire from Southern Alabama Railroad Company, Inc., its rights and interests in, and to operate, an approximately 15.04-mile rail line from approximately milepost 374.96, at or near Troy, AL, to the end of the line at approximately milepost 390.00, at or near Goshen, AL.¹ CV certifies that its projected annual revenues will not exceed those that would qualify it as a Class III rail carrier and that its annual revenues are not projected to exceed $5 million.

¹ By letter filed October 30, 2001, Anderson's Peanuts, a shipper on the line, has expressed concern due to advice attributed to representatives of CV that CV would no longer provide rail service to the shipper's Goshen plant.

The transaction was expected to be consummated on or after October 22, 2001, the effective date of the exemption (7 days after the notice was filed).

This transaction is related to STB Finance Docket No. 34106, Gulf & Ohio Railways Holding Co., Inc. H. Peter Claussen and Linda C. Claussen-Continuance in Control Exemption-Conecuh Valley Railroad Co., Inc., wherein Gulf & Ohio Railways Holding Co., Inc. (G&O), H. Peter Claussen and Linda C. Claussen (the Claussens) have filed a notice of exemption to continue in control of CV upon its becoming a Class III rail carrier.²

² CV will be wholly owned by G&O, which controls seven other Class III carriers. G&O, in turn, is wholly owned by the Claussens. The Claussens also own and control another Class III railroad, H&S Railroad, Inc., which operates in Southeast Alabama.

If the notice contain false or misleading information, the exemption is void ab initio. Petitions to revoke the exemption under 49 U.S.C. 10502(d) may be filed at any time. The filing of a petition to revoke will not automatically stay the transaction.

An original and 10 copies of all pleadings, referring to STB Finance Docket No. 34105, must be filed with the Surface Transportation Board, Office of the Secretary, Case Control Unit, 1925 K Street, NW., Washington, DC 20423-0001. In addition, one copy of each pleading must be served on Rose-Michele Weinryb, Weiner Brodsky Sidman Kider PC, 1300 19th Street, NW., Fifth Floor, Washington, DC 20036-1609.

Board decisions and notices are available on our web site at “WWW.STB.DOT.GOV.”

Decided: November 7, 2001.
By the Board, David M. Konschnik, Director, Office of Proceedings.
Vernon A. Williams,
Secretary.

[FR Doc. 01-28501 Filed 11-13-01; 8:45 am]

BILLING CODE 4915-00-P